DEPARTMENT OF HOMELAND SECURITY

Coast Guard

[USCG-2008-0071]

Chemical Transportation Advisory Committee; Vacancies

AGENCY: Coast Guard, DHS.

ACTION: Request for applications.

SUMMARY: The Coast Guard is seeking applications for appointment to membership on the Chemical Transportation Advisory Committee (CTAC). CTAC advises, consults with, and makes recommendations to the Coast Guard on matters relating to the safe and secure transportation and handling of hazardous materials in bulk on U.S.-flag vessels in U.S. ports and waterways.

DATES: Application forms should reach the Coast Guard on or before July 31, 2008.

ADDRESSES: You may request an application form by writing to Commandant (CG-5223), U.S. Coast Guard, 2100 Second Street SW., Washington, DC 20593-0001; by calling (202) 372-1425/1422; or by faxing (202) 372-1926. Submit application forms to the same address. This notice and the application form are available on the Internet at http://dms.dot.gov. The application form is also available at http://homeport.uscg.mil/ctac as a supporting document for “How to become a CTAC member” under “Members”.

FOR FURTHER INFORMATION CONTACT: Commander Richard J. Raksnis, Executive Director of CTAC, or Ms. Sara S. Ju, Assistant to the Executive Director, telephone (202) 372-1425/1422, fax (202) 372-1926.

SUPPLEMENTARY INFORMATION: The Chemical Transportation Advisory Committee (CTAC) is an advisory committee constituted under the Federal Advisory Committee Act, 5 U.S.C. App. (Pub. L. 92-463). It advises, consults with, and makes recommendations to the Commandant through the Assistant Commandant for Operations on matters relating to the safe and secure transportation and handling of hazardous materials in bulk on U.S.-flag vessels in U.S. ports and waterways. The advice and recommendations of CTAC also assist the U.S. Coast Guard in formulating the position of the United States on hazardous material transportation issues prior to meetings of the International Maritime Organization.

CTAC meets at least once a year, usually twice a year, at Coast Guard Headquarters in Washington, DC, or in another location. CTAC's subcommittees and working groups may meet to perform specific assignments as required.

The Coast Guard will consider applications for nine positions that expire on December 31, 2008. To be eligible, applicants should have experience associated with, and represent the viewpoints of, the following areas associated with marine transportation of hazardous materials in bulk: Chemical manufacturing companies, companies that handle or transport chemicals in the marine environment, vessel design and construction companies, marine safety or security companies and marine environmental protection groups. Each member serves for a term of 3 years. Some members may serve consecutive terms. All members serve at their own expense, and receive no salary, reimbursement of travel expenses, or other compensation from the Federal Government.

In support of the policy of the Department of Homeland Security on gender and ethnic diversity, the Coast Guard encourages applications from qualified women and members of minority groups.

Dated: February 13, 2008.
J.G. Lantz,
Director of Commercial Regulations and Standards, Assistant Commandant for Operation.

[FR Doc. E8-3412 Filed 2-22-08; 8:45 am]

BILLING CODE 4910-15-P